DEPARTMENT OF HOMELAND SECURITY

Transportation Security Administration

Intent To Request Renewal From OMB of One Current Public Collection of Information: TSA Airspace Waiver Program

AGENCY: Transportation Security Administration, DHS.

ACTION: Notice.

SUMMARY: The Transportation Security Administration (TSA) invites public comment on one currently approved Information Collection Request (ICR) abstracted below that we will submit to the Office of Management and Budget (OMB) for renewal in compliance with the Paperwork Reduction Act. The ICR describes the nature of the information collection and its expected burden. This collection of information allows TSA to conduct security threat assessments on individuals on board aircraft operating in restricted airspace pursuant to an airspace waiver. This collection will enhance aviation security and protect assets on the ground that are within the restricted airspace.

DATES: Send your comments by August 29, 2008.

ADDRESSES: Comments may be mailed or delivered to Joanna Johnson, Communications Branch, Business Management Office, Operational Process and Technology, TSA-32, Transportation Security Administration, 601 South 12th Street, Arlington, VA 22202-4220.

FOR FURTHER INFORMATION CONTACT: Joanna Johnson at the above address, or by telephone (571) 227-3651 or facsimile (571) 227-3588.

SUPPLEMENTARY INFORMATION:

Comments Invited

In accordance with the Paperwork Reduction Act of 1995 (44 U.S.C. 3501 et seq. ), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0033; TSA Airspace Waiver Program. TSA is seeking approval to renew this collection of information in order to operate the airspace waiver program. The airspace waiver program allows general aviation aircraft operators who undergo security threat assessments to apply for approval to operate in restricted airspace. TSA is requesting this approval to respond to the needs of the general aviation community and to allow freedom of movement and commerce throughout United States airspace. Applicants can apply for a waiver online and must submit the request electronically within 7-10 business days prior to the start date of the flight. TSA will transmit the waiver request form to applicants either electronically or by facsimile, if necessary.

To obtain a waiver, the aircraft operator must file a waiver request in advance of the flight containing information about all passengers and crew members on board the flight, so that TSA may perform a security threat assessment on each individual. The waiver request requires aircraft operators to provide information about the flight, passengers, and crew members. Specifically, waivers must include the purpose of the flight, the aircraft type and tail number, corporate information, including company name and address, and the proposed itinerary. Additionally, aircraft operators must provide the names, dates and places of birth, and Social Security numbers or passport numbers of all passengers and crew members. The current estimated annual reporting burden is 9,000 hours (6,000 respondents × 1.5 hours per respondent).

Issued in Arlington, Virginia, on June 20, 2008.
Kriste Jordan,
Program Manager, Business Improvements and Communication, Office of Information and Technology.

[FR Doc. E8-14662 Filed 6-27-08; 8:45 am]

BILLING CODE 9110-05-P